UNITED STATES INSTITUTE OF PEACE

Sunshine Act Meeting

Date/Time: Thursday—June 19, 2003 (11 a.m.-9 p.m.), Friday—June 20, 2003 (9 a.m.-6 p.m.).

Location: Carter Hall Conference Center, 255 Carter Hall Lane, Millwood, Virginia 22646.

Status: Open Session—Portions may be closed pursuant to Subsection (c) of Section 552(b) of Title 5, United States Code, as provided in subsection 1706(h)(3) of the United States Institute of Peace Act, Public Law 98-525.

Agenda: June 2003 Board Meeting; Approval of Minutes of the One Hundred Ninth Meeting (March 20, 2003) of the Board of Directors; Chairman's Report; President's Report; Review, Discussion and Approval of Solicited Topics for Grants; Selection of National Peace Essay Contest Winners; Committee Reports; Discussion of Strategic Plan; Other General Issues.

FOR MORE INFORMATION CONTACT: Mr. John Brinkley, Director, Office of Public Outreach, Telephone: (202) 457-1700.

Dated: June 3, 2003.
Harriet Hentges,
Executive Vice President, United States Institute of Peace.

[FR Doc. 03-14900 Filed 6-9-03; 3:04 pm]

BILLING CODE 6820-AR-M